DEPARTMENT OF THE TREASURY

31 CFR Part 5

RIN 1505-AA90

Treasury Debt Collection

AGENCY: Department of the Treasury.

ACTION: Notice of proposed rulemaking by cross-reference to interim regulations.

SUMMARY: This proposed rule proposes to revise Treasury's debt collection regulations. Elsewhere in this issue of the Federal Register, the Department of the Treasury is issuing an interim rule revising the Department of the Treasury's debt collection regulations to conform with the Debt Collection Improvement Act of 1996, the revised Federal Claims Collection Standards, and other laws applicable to the collection of nontax debts owed to Treasury. The interim rule revises Treasury's regulations governing the offset of Treasury-issued payments to collect debts owed to other Federal agencies. The interim rule also serves as the text of this notice of proposed rulemaking.

DATES: Comments must be received on or before November 27, 2002.

ADDRESSES: Send comments to Cathy Thomas, Office of the Deputy Chief Financial Officer, Department of the Treasury, 1500 Pennsylvania Avenue, NW, Attention: Metropolitan Square, Room 6228, Washington, DC 20220. Comments also may be submitted by electronic mail tocathy.thomas@do.treas.gov.

FOR FURTHER INFORMATION CONTACT: Cathy Thomas, Office of the Deputy Chief Financial Officer, at (202) 622-0817, Department of the Treasury, 1500 Pennsylvania Avenue, NW, Washington, DC 20220. This document is available for downloading from the Department of the Treasury's Financial Management Service web site at the following address: http://www.fms.treas.gov.

SUPPLEMENTARY INFORMATION: The interim rule in this issue of the Federal Register revises 31 CFR part 5. For the text of the interim rule, see Treasury Debt Collection, published elsewhere in this issue of the Federal Register.

Regulatory Analyses

This proposed rule is not a significant regulatory action as defined in Executive Order 12866. It is hereby certified that this proposed rule will not have a significant economic impact on a substantial number of small entities. The rule will only affect persons who owe delinquent nontax debts to the Treasury Department and other Federal agencies. Accordingly, a regulatory flexibility analysis is not required by the Regulatory Flexibility Act (5 U.S.C. 601 et seq.).

List of Subjects in 31 CFR Part 5

Administrative practice and procedure, Claims, Debts, Garnishment of wages, Government employee, Hearing and appeal procedures, Pay administration, Salaries, Wages.

Dated: September 26, 2002.
Edward R. Kingman, Jr.,
Assistant Secretary for Management and Chief Financial Officer, Department of the Treasury.

[FR Doc. 02-27007 Filed 10-25-02; 8:45 am]

BILLING CODE 4811-16-P